DEPARTMENT OF THE INTERIOR

Fish and Wildlife Service

Receipt of Applications for Incidental Take Permits for the Delhi Sands Flower-Loving Fly and Availability of an Environmental Assessment Associated With the Development of Five Sites in the Cities of Rialto and Colton, San Bernardino County, CA

AGENCY: Fish and Wildlife Service, Interior.

ACTION: Notice of availability and receipt of applications.

SUMMARY: John J. Reichel, Serenata LLC, West San Bernardino County Water District, Richard A. Steidl, and Brigitta M. Steidl (Applicants) have applied to the Fish and Wildlife Service for the approval of a Habitat Conservation Plan and issuance of incidental take permits pursuant to section 10(a)(1)(B) of the Endangered Species Act, 1973, as amended (Act). The Applicants propose to independently develop a municipal well, commercial/retail development, two residential developments, and one project that will either be residential and/or commercial/retail on five different sites in the cities of Colton and Rialto. The Applicants seek permits for a period of 20 years that would authorize incidental take of the endangered Delhi Sands flower-loving fly (Rhaphiomidas terminatus abdominalis) associated with the development and use of an approximately 32.8-acre area of which 29.9 acres is appropriate Delhi soils.

The Service seeks public comment on the permit applications, which include a Habitat Conservation Plan and the Implementation Agreement that defines the responsibilities of the parties under the Habitat Conservation Plan. We also seek comment on an Environmental Assessment for our proposed permit actions. All comments will become part of the administrative record and may be released to the public.

DATES: We must receive your written comments on or before January 2, 2001.

ADDRESSES: Please address comments to Mr. Ken Berg, Field Supervisor, Fish and Wildlife Service, 2730 Loker Avenue West, Carlsbad, California 92008. You may send comments by facsimile to telephone (760) 930-0846.

FOR FURTHER INFORMATION CONTACT: Mr. Jim Bartel, Assistant Field Supervisor, Carlsbad Fish and Wildlife Service Office, at the above address or call (760) 431-9440.

SUPPLEMENTARY INFORMATION:

Availability of Documents

You may obtain copies of the documents for review by calling the Service's Carlsbad Fish and Wildlife Office at the above referenced telephone number. Documents also are available for public inspection, by appointment, during normal business hours at the above address.

Background

Section 9 of the Act and its implementing regulations prohibit the “take” of threatened or endangered species. That is, no one may harass, harm, pursue, hunt, shoot, wound, kill, trap, capture or collect listed animal species, or attempt to engage in such conduct (16 U.S.C. 1538). Harm may include significant habitat modification where it actually kills or injures wildlife by significantly impairing essential behavioral patterns, including breeding, feeding, and sheltering [50 CFR 17.3(c)]. The Service, however, may issue permits to take endangered and/or threatened wildlife species incidental to, and not the purpose of otherwise lawful activities. Regulations governing permits for endangered and/or threatened species are found at 50 CFR 17.22 and 17.32.

We propose to authorize incidental take of the Delhi Sands flower-loving fly from the Applicants' proposed activities, on the five sites, as described in the Habitat Conservation Plan. The Habitat Conservation Plan describes alternatives to the proposed action and provisions for minimization, mitigation, and monitoring of impacts.

The Applicants propose to develop up to 32.8 acres, of which, approximately 29.9 acres consists of Delhi soils. The majority of the 29.9 acres proposed for development consists of compacted soils with invasive weed species. Approximately 11 acres of Delhi Sands flower-loving fly habitat is proposed to be transferred in fee title to the National Fish and Wildlife Foundation to be preserved and managed in perpetuity for the conservation of the Delhi Sands flower-loving fly. The proposed conservation area is comprised of Delhi soils, contiguous to other known occupied habitat. Prior to ground disturbance, the Applicants and the National Fish and Wildlife Foundation propose to provide funding for the management of the conservation area. This action would compensate for the loss of habitat resulting from the project and would benefit the long-term conservation of the Delhi Sands flower-loving fly.

The Habitat Conservation Plan and the Environmental Assessment considered three alternatives to the proposed Project: (1) No permits issued (the “No Project” alternative), (2) revising the project by decreasing the size of the developable area, and (3) revising the project by increasing the size of the conservation area.

Under the “No Project” alternative the permits would not be issued to each individual landowner. The landowners would be independently responsible for their respective projects and would pursue local approvals and individual incidental take permits where necessary. It is likely that some of the projects would receive local approvals to proceed and some of the projects would be denied approvals by their local jurisdictions until they either conducted focused Delhi Sands flower-loving fly surveys to determine presence or absence or received individual incidental take permits. Although this alternative would likely result in no impact by development of some of the Project sites immediately, the Applicants would not collectively secure, enhance, or restore the conservation area for recovery or conservation of the Delhi Sands flower-loving fly currently being proposed under the Proposed Action. If individual project sites are determined to be occupied by the Delhi Sands flower-loving fly, then an incidental take permit will be necessary for those project proponents who wish to proceed with development.

Under the second alternative, some of the parcels would be eliminated from the developable area while maintaining the conservation measures that are part of the Proposed Action. This would result in fewer Delhi soils being developed and the size of the proposed conservation area for the Delhi Sands flower-loving fly would remain the same as under the Proposed Action.

Under the third alternative, there would be a 1-acre (12 acres total) increase in the size of land being conserved while maintaining the same area proposed for development that is part of the Proposed Action. Compared to the Proposed Action, this alternative would result in an additional acre being conserved for the Delhi Sands flower-loving fly.

This notice is provided pursuant to section 10(a) of the Endangered Species Act and Service regulations for implementing the National Environmental Policy Act of 1969 (40 CFR 1506.6). We will evaluate the permit applications, the Habitat Conservation Plan, Environmental Assessment, the associated documents and comments submitted thereon to determine whether the applications meet the requirements of section 10(a) of the Endangered Species Act. If we determine that the requirements are met, we will issue permits for the incidental take of the Delhi Sands flower-loving fly to the Applicants. We will make a final decision on these permit actions no sooner than 60 days from the date of this notice.

Dated: October 26, 2000.
John Engbring,
Acting Deputy Manager, California/Nevada Operations Office, Sacramento, California.

[FR Doc. 00-28071 Filed 11-1-00; 8:45 am]

BILLING CODE 4310-55-P